DEPARTMENT OF JUSTICE

Antitrust Division

Notice Pursuant to the National Cooperative Research and Production Act of 1993—American Petroleum Institute

Notice is hereby given that, on September 16, 2004, pursuant to section 6(a) of the National Cooperative Research and Production Act of 1893, 15 U.S.C. 4301 et seq. (“the Act”) American Petroleum Institute (“API”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: American Petroleum Institute, Washington, DC. The nature and scope of API's standards development activities are: Development and maintenance of voluntary standards for the petroleum industry through committees charged with developing standards for (1) oilfield equipment and materials, (2) petroleum measurement, (3) refinery equipment, (4) marketing operations, (5) pipeline transportation, (6) fire and safety, (7) lubricants, and (8) business and information technology. More information regarding API standards development activities may be obtained from the API Web site at http://www.api.org, which includes contact information for API standards activities.

Dorothy B. Fountain,
Deputy Director of Operations, Antitrust Division.

[FR Doc. 04-25074 Filed 11-9-04; 8:45 am]

BILLING CODE 4410-11-M